ENVIRONMENTAL PROTECTION AGENCY

40 CFR Part 300

[EPA-HQ-SFUND-1989-0009; FRL-9957-31-Region 3]

National Oil and Hazardous Substances Pollution Contingency Plan; National Priorities List: Partial Deletion of the North Penn Area 6 Superfund Site

AGENCY: Environmental Protection Agency.

ACTION: Direct final rule; notice of partial deletion of the North Penn Area 6 Superfund Site from the National Priorities List.

SUMMARY: The Environmental Protection Agency (EPA) Region III is publishing a direct final notice of partial deletion of a portion of the North Penn Area 6 Superfund Site (Site) located in Lansdale Borough, Montgomery County, Pennsylvania, from the National Priorities List (NPL). The deletion affects approximately 6.5 acres located at 135 East Hancock Street (the “Administrative Parcel”). The NPL, promulgated pursuant to section 105 of the Comprehensive Environmental Response, Compensation, and Liability Act (CERCLA) of 1980, as amended, is found at Appendix B of the National Oil and Hazardous Substances Pollution Contingency Plan (NCP). This direct final partial deletion is being published by EPA with the concurrence of the Commonwealth of Pennsylvania, through the Pennsylvania Department of Environmental Protection (PADEP), because EPA has determined that all appropriate response actions at the Administrative Parcel under CERCLA, other than five-year reviews, have been completed. However, this partial deletion does not preclude future actions at the Administrative Parcel under Superfund.

This partial deletion pertains to soils and groundwater of the Administrative Parcel portion of the Site. The other portions of the Site will remain on the NPL, and are not being considered for deletion as part of this action.

DATES: This direct final partial deletion is effective February 21, 2017 unless EPA receives adverse comments by January 23, 2017. If adverse comments are received, EPA will publish a timely withdrawal of the direct final partial deletion in the Federal Register informing the public that the partial deletion will not take effect.

ADDRESSES: Submit your comments, identified by Docket ID no. EPA-HQ-SFUND-1989-0009, by one of the following methods:

• http://www.regulations.gov. Follow on-line instructions for submitting comments.

• Email: ngo.huu@epa.gov.

• Mail: U.S. Environmental Protection Agency, Region III, Attn: Huu Ngo (3HS21), 1650 Arch Street, Philadelphia, PA 19103-2029

• Hand Delivery: U.S. Environmental Protection Agency, Region III, Attn: Huu Ngo (3HS21), 1650 Arch Street, Philadelphia, PA 19103-2029, Phone: 215-814-3187, Business Hours: Mon. through Fri.—8:00 a.m. to 4:30 p.m. Such deliveries are only accepted during the Docket's normal hours of operation, and special arrangements should be made for deliveries of boxed information.

Instructions: Direct your comments to Docket ID no. EPA-HQ-SFUND-1989-0009. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

• U.S. EPA Region III, Superfund Records Center, 6th Floor, 1650 Arch Street, Philadelphia, PA 19103-2029; (215) 814-3157, Monday through Friday 8:00 a.m. to 5:00 p.m.

• The Lansdale Public Library, 301 Vine St, Lansdale, PA 19446; phone (215) 855-3228. Monday through Friday 10:00 a.m.-9:00 p.m.

FOR FURTHER INFORMATION CONTACT: Huu Ngo, Remedial Project Manager (3HS21), U.S. Environmental Protection Agency, Region III, 1650 Arch Street, Philadelphia, PA 19103-2029; (215) 814-3187; email: ngo.huu@epa.gov.

SUPPLEMENTARY INFORMATION:

Table of Contents

I. Introduction

II. NPL Deletion Criteria

III. Partial Deletion Procedures

IV. Basis for Partial Site Deletion

V. Partial Deletion Action

I. Introduction

EPA Region III is publishing this direct final Notice of Partial Deletion of a portion the North Penn Area 6 Superfund Site from the National Priorities List (NPL). This partial deletion pertains to the soils and groundwater of the Administrative Parcel portion of the Site. The NPL constitutes Appendix B of 40 CFR part 300, which is the National Oil and Hazardous Substances Pollution Contingency Plan (NCP), which EPA promulgated pursuant to section 105 of the Comprehensive Environmental Response, Compensation and Liability Act (CERCLA) of 1980, as amended. EPA maintains the NPL as the list of sites that appear to present a significant risk to public health, welfare, or the environment. Sites on the NPL may be the subject of remedial actions financed by the Hazardous Substance Superfund (Fund). This partial deletion of the North Penn Area 6 Site is proposed in accordance with 40 CFR 300.425(e) and is consistent with the Notice of Policy Change: Partial Deletion of Sites Listed on the National Priorities List. 60 FR 55466 (Nov. 1, 1995). As described in 40 CFR 300.425(e)(3) of the NCP, a portion of a site deleted from the NPL remains eligible for Fund-financed remedial actions if future conditions warrant such actions.

Section II of this document explains the criteria for deleting sites from the NPL. Section III discusses the procedures that EPA is using for this action. Section IV discusses the Administrative Parcel of the North Penn Area 6 Superfund Site and demonstrates how it meets the deletion criteria. Section V discusses EPA's action to delete the Administrative Parcel portion of the Site from the NPL unless adverse comments are received during the public comment period.

II. NPL Deletion Criteria

The NCP establishes the criteria that EPA uses to delete sites from the NPL. In accordance with 40 CFR 300.425(e), sites may be deleted from the NPL where no further response is appropriate. In making such a determination pursuant to 40 CFR 300.425(e), EPA will consider, in consultation with the Commonwealth, whether any of the following criteria have been met:

i. Responsible parties or other persons have implemented all appropriate response actions required;

ii. all appropriate Fund-financed response under CERCLA has been implemented, and no further response action by responsible parties is appropriate; or

iii. the remedial investigation has shown that the release poses no significant threat to public health or the environment and, therefore, the taking of remedial measures is not appropriate.

Pursuant to CERCLA section 121(c) and the NCP, EPA conducts five-year reviews to ensure the continued protectiveness of remedial actions where hazardous substances, pollutants, or contaminants remain at a site above levels that allow for unlimited use and unrestricted exposure. EPA conducts such five-year reviews even if a site is deleted from the NPL. EPA may initiate further action to ensure continued protectiveness at a deleted site if new information becomes available that indicates such action is appropriate. Whenever there is a significant release from a site deleted from the NPL, the deleted site may be restored to the NPL without application of the hazard ranking system.

III. Partial Deletion Procedures

The following procedures apply to deletion of the Administrative Parcel portion of the Site:

(1) EPA consulted with the Commonwealth of Pennsylvania prior to developing this direct final Notice of Partial Deletion and the Notice of Intent for Partial Deletion co-published today in the “Proposed Rules” section of the Federal Register.

(2) EPA provided the Commonwealth 30 working days for review of this notice and the parallel Notice of Intent for Partial Deletion prior to their publication today, and the Commonwealth, through PADEP, concurred on the partial deletion of the Site from the NPL.

(3) Concurrently with the publication of this direct final Notice of Partial Deletion, a notice of the availability of the parallel Notice of Intent for Partial Deletion is being published in a major local newspaper, The Reporter. The newspaper notice announces the 30-day public comment period concerning the Notice of Intent for Partial Deletion of the Site from the NPL.

(4) The EPA placed copies of documents supporting the partial deletion in the deletion docket and made these items available for public inspection and copying at the Site information repositories identified above.

(5) If adverse comments are received within the 30-day public comment period on this partial deletion action, EPA will publish a timely notice of withdrawal of this direct final Notice of Partial Deletion before its effective date, and will prepare a response to comments and continue with the deletion process, as appropriate, on the basis of the Notice of Intent for Partial Deletion and the comments already received.

Deletion of a portion of a site from the NPL does not itself create, alter, or revoke any individual's rights or obligations. Deletion of a portion of a site from the NPL does not in any way alter EPA's right to take enforcement actions, as appropriate. The NPL is designed primarily for informational purposes and to assist EPA management. Section 300.425(e)(3) of the NCP states that the deletion of a site from the NPL does not preclude eligibility for future response actions, should future conditions warrant such actions.

IV. Basis for Partial Site Deletion

The following information provides EPA's rationale for deleting the Administrative Parcel portion of the Site from the NPL:

Site Background and History

The North Penn Area 6 Superfund Site (EPA Identification Number PAD980926976) is located primarily in Lansdale Borough, Montgomery County, Pennsylvania. The Site is comprised of multiple properties contaminated primarily with volatile organic compounds (VOCs) in the soil and associated groundwater contamination. One of the properties consists of approximately 10 acres of land located at 135 East Hancock Street in Lansdale Borough (the “Property”). The Property was formerly occupied by the Tate Andale Company, and later by the Rogers Mechanical Company. The Administrative Parcel is comprised of approximately 6.5 acres located within the Property.

The current owner of the Property, including the Administrative Parcel, is Andale Properties, LLC. Andale Properties, LLC plans to redevelop the Property for future residential purposes. Andale Properties, LLC has divided the Property into four Phases (1 through 4) for redevelopment. The Administrative Parcel is comprised of Phases 2 and 3.

The Property is currently occupied by three buildings, portions of two former structures, and footers and concrete pads from previous on-site buildings. A treatment system operated currently by EPA for treatment of groundwater and multiple monitoring wells are also present at the Property. The Property is bordered to the southwest by East Hancock Street, and to the west, northwest, and east by railroad lines. The ground surface elevation of the Property is approximately 370 feet above mean sea level. The Property consists of relatively flat terrain with a gradual slope towards the southwest. There are no surface water bodies located within the boundaries of the Property. The nearest body of water is the Towamencin Creek, which is located approximately 2,800 feet southwest of the Property. Surface water runoff following precipitation events either infiltrates the ground surface or drains towards the western portion of the Property prior to entering a swale adjacent to the neighboring railroad tracks. Surrounding land use includes commercial, industrial, and residential uses.

The Tate Andale Company formerly occupied the Property dating back to at least the 1920s, and historically used the Property to fabricate oil coolers, heaters, and strainers. Rogers Mechanical Company purchased the Property in 1985 and operated a plumbing and heating business. The former Tate Andale Company was one of twenty-six property owners/operators to be identified as a potentially responsible party (PRP) at the Site following the detection of groundwater contamination in the Lansdale area in 1979. North Penn Area 6 was proposed to the National Priorities List on January 22, 1987 (52 FR 27620), and became a Superfund Site when the listing became final on March 31, 1989 (54 FR 13296). EPA divided the Site into three operable units (OUs). Operable Unit One (OU1) consists of Fund-financed response actions to address the contaminated soils at certain of the properties that comprise the Site. Operable Unit Two (OU2) consists of PRP-financed response actions to address the contaminated soils at certain other properties that comprise the Site. Operable Unit Three (OU3) consists of Fund-financed and PRP-financed response actions to address the contaminated groundwater over the entire Site. All activities associated with investigation and remediation at the Property were performed by EPA and financed by the Fund, and are part of OU1 and OU3. The Administrative Parcel consists of soils and groundwater on the aforementioned approximately 6.5 acre portion of the Property.

Remedial Investigation and Feasibility Study (OU1)

Soils at the Property were investigated as part of the OU1 Remedial Investigation and Feasibility Study (RI/FS). The OU1 RI at the Property focused primarily on a coal ash and scrap metal pile located on the southwestern portion of the Property and another area on the eastern portion of the Property. Soil gas and soil samples were collected from these areas, and elevated levels of VOCs were found in the area on the eastern portion of the Property. Trichloroethylene (TCE) was detected at concentrations up to 4600 μg/kg, and contaminants associated with the breakdown of TCE were also found at elevated levels. The Risk Assessment determined that the contaminant levels would present a risk to groundwater, and a cleanup standard of 131 μg/kg for TCE in soil was determined to protect groundwater. An area comprising roughly 18,000 cubic feet of soil on the east side of the Property was determined to require treatment. The OU1 Feasibility Study considered alternatives for remediation of the VOC-contaminated soil including No Action, Containment with Cap, Vapor Extraction, Low Temperature Thermal Desorption, Soil Washing/Biotreatment, Excavation and Off-site Disposal, and In-Place Processing with Hot Air Injection.

Selected Remedy (OU1)

The Property was one of four properties addressed in the 1995 Record of Decision (ROD) for OU1. The OU1 Remedial Action Objective was to prevent further contamination of groundwater from contaminated soils. The selected alternative was in-place processing using hot air injection, with excavation and off-site disposal as a back-up. During the Remedial Design, it was determined that hot air injection would not achieve the performance standards of the OU1 ROD, and the backup remedy of excavation and off-site disposal was used to meet performance standards. Approximately 861 cubic yards of contaminated soil were removed from the Property as part of the OU1 remedial action and disposed of in a Resource Conservation and Recovery Act (RCRA) permitted landfill facility in Model City, New York. EPA approved the OU1 remedial action report for the Property in 2001.

Operable Unit 2 (OU2)

OU2 consists of soils investigations at certain enforcement-lead properties. The Property (including the Administrative Parcel to be deleted from the NPL) is not included in OU2.

Remedial Investigation and Feasibility Study (OU3)

Groundwater contamination was investigated as part of the RI/FS for OU3. Groundwater contamination at the Property is focused primarily in the southwestern portion of the Property. The OU3 RI/FS found contamination from VOCs at unacceptable levels in monitoring wells and a former production well (TA-1) on the Property. Contamination in well TA-1 was found at concentrations up to 7,740 μg/L of TCE, and the Property was included in the OU3 Feasibility Study to evaluate alternatives for treatment of the groundwater. The OU3 Feasibility Study considered several alternatives involving extraction of contaminated groundwater using differing treatment technologies and differing discharge points.

Selected Remedy (OU3)

The Property was included in the OU3 ROD in 2000, which called for construction of groundwater extraction and treatment systems at several properties, including the Property, included in the Site to remediate the contaminated groundwater. The goal of the groundwater extraction and treatment systems is to restore the aquifer to beneficial use as a potable use aquifer. The major components of the selected remedy in the OU3 ROD include the following:

• Completion of a groundwater remedial design study to determine the most efficient design of a groundwater extraction and treatment system.

• Installation, operation, and maintenance of on-site groundwater extraction wells to remove contaminated groundwater from beneath the Site and to prevent contaminants from migrating off-site.

• Installation, operation, and maintenance of air stripping treatment at on-site groundwater extraction wells to treat groundwater to required cleanup levels.

• Construction, operation, and maintenance of a pipeline from the on-site groundwater treatment systems to the nearest surface water body or storm drain leading to a surface water body.

• Periodic sampling of groundwater and treated water to ensure treatment components are effective and groundwater remediation is progressing towards the cleanup levels.

During the Remedial Design of the groundwater extraction and treatment system at the Property, EPA conducted a pump test on the extraction well at the Property. The well failed to produce an adequate yield of contaminated water to treat to significantly improve groundwater quality. As a result, EPA conducted additional testing to determine if adding a vapor extraction unit to the treatment system at the Property would increase contaminant removal and improve the performance of the OU3 selected remedy at the Property. Based on those results, EPA issued an Explanation of Significant Differences (ESD) on September 16, 2009, requiring implementation of a modified remedy at the Property which includes vapor extraction to enhance the performance of the remedy selected in the OU3 ROD. Testing also indicated that significant cost savings could be achieved by replacing the air stripper at the Property with a vessel containing granular activated carbon (GAC). Therefore, the ESD further allowed EPA to modify the OU3 remedy at the Property to allow for this form of treatment. The treatment system at the Property was built, and determined to be operational and functional in 2012. EPA plans on transferring the groundwater treatment system at the Property to PADEP for Operation and Maintenance (O&M) in 2022.

Response Actions

During the Remedial Design of the OU1 remedy to address contaminated soils at the Property, it was determined that the alternative selected in the OU1 ROD would not achieve the performance standards of the ROD; therefore, the backup remedy of excavation and off-site disposal was used to meet the performance standards. Approximately 861 cubic yards of contaminated soil were removed from the Property as part of the OU1 remedial action. EPA approved the OU1 remedial action report for the Property in 2001. No further actions to remediate the soil at the Property have been required.

During the Remedial Design of the OU3 remedy to address contaminated groundwater at the Property, it was determined that the alternative selected in the OU3 ROD would not treat enough contaminated water at the Property to significantly improve groundwater quality. As a result, EPA issued the ESD to require a modified remedy at the Property which includes vapor extraction and allows for the replacement of the air stripper with a vessel containing GAC to enhance the performance of the remedy selected in the OU3 ROD. EPA built the treatment system at the Property, and determined that it was operational and functional in 2012. EPA continues to operate and maintain the groundwater treatment system at the Property.

Cleanup Levels

In the OU1 ROD, EPA selected a soil cleanup level of 131 μg/kg of trichloroethylene (TCE) to be protective of groundwater. To expedite backfilling of excavated areas at the Property, EPA conducted Quality Control sampling prior to excavation to delineate the extent of contamination, and eliminate the need to keep excavation areas open while additional sampling and analysis were being performed to determine if the performance standard (cleanup level) for soil in the OU1 ROD had been met. Thirty samples were collected at the Property and sent for analysis. The performance standard was exceeded at one location; therefore, additional samples were collected further out. As a result of the sampling, the boundary of excavation was extended out five feet to comply with the OU1 performance standard. After the excavation and off-site disposal of soils was completed, EPA certified the OU1 Remedial Action at the Property to be complete.

The OU3 remedy to address contaminated groundwater called for restoration of the aquifer to beneficial use as a potable use aquifer. The OU3 ROD set the groundwater cleanup level as the EPA Maximum Contaminant Level (MCL). The MCL for TCE is 5 ug/L. There are currently ten monitoring wells on or near the Property: ROG-1S, ROG-1D, ROG-2S, ROG-2I, ROG-3S, ROG-3I, ROG-4S, ROG-4I, ROG-5, and ROG-6, in addition to the extraction well TA-1. Currently, only two of the monitoring wells at the Property, ROG-3S and ROG-4S, show contamination above the MCL. Most monitoring wells at the Property have shown downward trends in contamination since the OU3 remedy was implemented. The monitoring wells located in the Administrative Parcel (ROG-1S, ROG1D, ROG-2S, and ROG-2I) have never exhibited contaminant concentrations in excess of the performance standard (cleanup level) for groundwater in the OU3 ROD and are considered to be upgradient from the current contaminated groundwater plume.

Operation and Maintenance (O&M)

There are no O&M requirements and no institutional controls for OU1 at the Property. For OU3, EPA plans on transferring the groundwater treatment system at the Property to PADEP for O&M in 2022. There are no institutional controls for OU3 at the Property. The monitoring wells on the Administrative Parcel will continue to be sampled.

Five-Year Review

The selected remedial actions, upon completion, will not leave hazardous substances, pollutants, or contaminants on site above levels that allow for unlimited use and unrestricted exposure; however, the OU3 remedial action will require more than five years to complete. As a result, EPA will perform Five Year Reviews at the Site pursuant to Section 121(c) of CERCLA, 42 U.S.C. 9621(c), until the cleanup levels for groundwater in the OU3 ROD are achieved, allowing for unlimited use and unrestricted exposure. Five Year Reviews will be triggered by the date that construction is completed at the entire Site.

Additional Investigations

The owner of the Property performed additional investigations at the Property subsequent to EPA's investigations. In 2005, fifty soil borings were advanced throughout the Property. A soil sample was collected from each soil boring and analyzed for VOC contamination. No soil samples exceeded EPA's performance standards (cleanup levels) for soil in the OU1 ROD. Nine composite samples were also collected and analyzed for semi-volatile organic compounds (SVOCs), polychlorinated biphenyls (PCBs), pesticides, metals, and cyanide. SVOCs, PCBs, pesticides, and cyanide were not detected at elevated levels in these samples; however, arsenic was detected in three samples at levels that exceeded background and EPA Regional Screening Levels (RSLs). In 2006, the owner of the Property conducted additional sampling in the vicinity of the samples where the elevated levels of arsenic were found. Eighteen additional soil borings were advanced, and two soil samples were collected from each boring. Elevated levels of arsenic were detected in two soil borings. EPA conducted a more rigorous evaluation of the risks associated with the arsenic levels and determined that the risks associated with the concentrations are within EPA's acceptable risk range.

The owner of the Property also conducted sampling to evaluate the planned construction of a stormwater basin on the Lansdale Borough electrical substation property located within the boundaries of the Property. Twelve test pits were excavated, two of which are located within the Administrative Parcel. The test pits were analyzed for VOCs, and a composite sample was analyzed for SVOCs, pesticides, PCBs, metals, and cyanide. No VOCs were detected at levels above EPA's performance standards (cleanup levels) for soil in the OU1 ROD. SVOCs, PCBs, metals, and cyanide were not detected at elevated levels.

The owner of the Property conducted additional sampling in 2016 on an approximately 3,000 cubic yard pile of top soil to be used as ground cover for the residential development. Twelve samples were collected from the pile and analyzed for metals. One sample was analyzed for hexavalent chromium. Metals concentrations were all found to be within EPA's acceptable risk range.

Community Involvement

Public participation activities have been satisfied as required in CERCLA section 113(k), 42 U.S.C. 9613(k), and CERCLA section 117, 42 U.S.C. 9617. Documents in the deletion docket on which EPA relied for recommendation of the deletion of the Administrative Parcel from the NPL are available to the public in the information repositories. The locations of the information repositories are set forth at the end of the Addresses section at the beginning of this notice.

Determination That the Criteria for Deletion Have Been Met

EPA has determined based on the investigations conducted that all appropriate response actions under CERCLA have been implemented at the Administrative Parcel. The remedial action for OU1 removed contaminated soil from the Administrative Parcel. The implemented OU1 remedy for soils has achieved performance standards specified in the OU1 ROD at the Administrative Parcel. The four monitoring wells (ROG1S, ROG1D, ROG2S, and ROG2I) that are located within the Administrative Parcel have not shown significant detections of contaminants. These wells are also considered upgradient from the current contaminated groundwater plume. The implemented OU3 remedy for groundwater has achieved performance standards specified in the OU3 ROD at the Administrative Parcel and will continue to extract and treat contaminated groundwater at other portions of the Property. The selected remedial action objectives and associated cleanup levels for OU1 and OU3 at the Administrative Parcel are consistent with agency policy and guidance and have been achieved at the Administrative Parcel. No further Superfund response action for the Administrative Parcel is needed to protect human health and the environment. Other procedures for deletion required by 40 CFR 300.425(e) are detailed in Section III of this direct Final Notice of Partial Deletion of a portion of the Site.

V. Partial Deletion Action

The EPA, with concurrence of the Commonwealth of Pennsylvania, through the PADEP, has determined that all appropriate response actions under CERCLA, other than five-year reviews and monitoring, have been completed for the Administrative Parcel. Therefore, EPA is deleting the Administrative Parcel portion of the North Penn Area 6 Superfund Site from the NPL.

Because EPA considers this action noncontroversial and routine, EPA is taking it without prior publication. This action will be effective February 21, 2017 unless EPA receives adverse comments by January 23, 2017. If adverse comments are received within the 30-day public comment period, EPA will publish a timely withdrawal of this direct final notice of partial deletion before the effective date of the partial deletion, and it will not take effect. EPA will prepare a response to comments and continue with the deletion process, as appropriate, on the basis of the notice of intent to partially delete and the comments already received. There will be no additional opportunity to comment.

List of Subjects in 40 CFR Part 300

Environmental protection, Air pollution control, Chemicals, Hazardous waste, Hazardous substances, Intergovernmental relations, Penalties, Reporting and recordkeeping requirements, Superfund, Water pollution control, Water supply.

Dated: December 5, 2016.
Cecil Rodrigues,
Acting Regional Administrator, Region III.

For the reasons set out in this document, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR, 1991 Comp., p. 351; E.O. 12580, 52 FR 2923, 3 CFR 1987 Comp., p. 193.

2. Table 1 of appendix B to part 300 is amended by revising the PA entry for “North Penn-Area 6”, “Lansdale” to read as follows:

Appendix B to Part 300—[Amended]

Table 1—General Superfund Section
State | Site name | City/County | Notes (a)
* * * * * * *
PA | North Penn-Area 6 | Lansdale | P
* * * * * * *
(a) = Based on issuance of health advisory by Agency for Toxic Substances and Disease Registry (if scored, HRS score need not be greater than or equal to 28.50).
S = State top priority (included among the 100 top priority sites regardless of score).
P = Sites with partial deletion(s).

[FR Doc. 2016-31032 Filed 12-22-16; 8:45 am]

BILLING CODE 6560-50-P